DEPARTMENT OF THE INTERIOR

Bureau of Indian Affairs

[167A2100DD.AADD001000.A0E501010.999900]

Reinstate Agency Information Collection for the Johnson O'Malley Act Requirements

AGENCY: Bureau of Indian Affairs, Interior.

ACTION: Reinstate information collection and request for comments.

SUMMARY: In compliance with the Paperwork Reduction Act of 1995, the Bureau of Indian Education is seeking comments and will ask the Office of Management and Budget (OMB) for approval to reinstate the collection of information, Johnson O'Malley Act Requirements, 25 CFR 273, previously authorized by OMB Control Number 1076-0096.

DATES: Submit comments on or before November 15, 2016.

ADDRESSES: You may submit comments on the information collection to Ms. Juanita Mendoza, Program Analyst, Bureau of Indian Education, U.S. Department of the Interior, 1849 C Street NW., MS: #4656 MIB, Washington, DC 20240; or email to: Juanita.Mendoza@bie.edu. Please mention that your comments concern the Johnson O'Malley Act Requirements, OMB Control Number 1076-0096.

FOR FURTHER INFORMATION CONTACT: To request a copy of the information collection request, any explanatory information, and related material, see the contact information provided in the ADDRESSES section above.

SUPPLEMENTARY INFORMATION:

I. Abstract

This information collection was authorized for several years under OMB Control Number 1076-0096. In 2005, the information collection was discontinued. However, the Bureau of Indian Education (BIE) would like to reinstate this collection of information for the reasons described below.

The Johnson O'Malley Act (JOM), 25 U.S.C. 455-457, authorizes the BIE to enter into contracts for the purpose of financially assisting those efforts designed to meet the specialized and unique educational needs of eligible Indian students enrolled in public schools and previously private schools. The JOM programs offered to American Indian and Alaska Native students vary and may include such programs as culture, language, academics, and dropout prevention. These include programs supplemental to the regular school program and school operational support, where such support is necessary to maintain established State educational standards.

The information allows the BIE to obtain the information necessary to determine applicant eligibility, evaluate applicant education plans, and review annual reports submitted by States, school districts, Indian corporations, and Tribal organizations who apply for and enter into contracts for the JOM Program. For purposes of this information collection, only State, school district, Indian corporations, and Tribal organizations are required to submit an application to determine eligibility to receive JOM Program funds. Federally recognized Tribes who wish to participate in the JOM Program are able to apply for funding under the Indian Self-Determination and Education Assistance Act Programs, 25 CFR 900, OMB Control Number 1076-0136.

The regulations at 25 CFR 273, Johnson O'Malley Act, implement the Act. The information collected is subject to the system of records notice “Native American Student Information System, BIA-22” referenced as 73 FR 40605 dated July 15, 2008. The burden hours for this new collection of information are reflected in the Estimated Total Annual Hour Burden in this notice.

II. Request for Comments

The BIE requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0096.

Title: Johnson O'Malley Act Requirements, 25 CFR 273.

Brief Description of Collection: Submission of this information allows a State, school district, Indian Corporation, or Tribal organization to enter into a contract with BIE for JOM program funds to financially assist efforts designed to meet the specialized and unique education needs of eligible Indian students enrolled in public schools and previously private schools.

Type of Review: Reinstatement.

Respondents: State, school district, Indian Corporations, and Tribal organizations.

Number of Respondents: 800 per year.

Estimated Number of Responses: 800 per year.

Estimated Time per Response: 5 hours.

Frequency of Response: Annually.

Obligation To Respond: A response if required to obtain or maintain a benefit.

Estimated Total Annual Hour Burden: 4,000 hours.

Estimated Total Annual Non-Hour Dollar Cost: $0.

Elizabeth K. Appel,
Director, Office of Regulatory Affairs and Collaborative Action—Indian Affairs.

[FR Doc. 2016-22317 Filed 9-15-16; 8:45 am]

BILLING CODE 4337-15-P